DEPARTMENT OF ENERGY

Office of Energy Efficiency and Renewable Energy

Notice of Intent To Issue a Funding Opportunity Announcement; Technical Assistance

AGENCY: Federal Energy Management Program, Office of Energy Efficiency and Renewable Energy, Department of Energy.

ACTION: Notice of intent to issue a funding opportunity announcement.

SUMMARY: Notice is hereby given of the intent to issue Funding Opportunity Announcement (FOA) DE-FOA-0000898, tentatively entitled “Assisting Federal Facilities with Energy Conservation Technologies” (AFFECT), subject to available funding. The U.S. Department of Energy (DOE) Federal Energy Management Program (FEMP) is anticipating the availability of grant funding to assist Federal agencies in implementing combined heat and power (CHP) and renewable energy measures in Federal facilities. This notice also is to inform Federal agencies of the availability of technical assistance in advance of the FOA with the planning of CHP and renewable measures.

ADDRESSES: Interested agencies can check the DOE Office of Energy Efficiency and Renewable Energy Funding Opportunity Exchange (EERE Exchange) Web site, located at https://eere-exchange.energy.gov for the posting of the FOA. Upon release of a FOA, applications only will be accepted through the EERE Exchange Web site. Prospective applicants also may receive official notifications and information regarding the FOA on the EERE Exchange Web site.

FOR FURTHER INFORMATION CONTACT: For requests for technical assistance regarding CHP, please contact David Boomsma, U.S. Department of Energy, Office of Energy Efficiency and Renewable Energy, Federal Energy Management Program (EE-2L), 1000 Independence Avenue SW., Washington, DC 20585; 202-586-7086; david.boomsma@ee.doe.gov. For requests for technical assistance regarding renewable energy measures, please contact Boyan Kovacic, U.S. Department of Energy, Office of Energy Efficiency and Renewable Energy, Federal Energy Management Program (EE-2L), 1000 Independence Avenue SW., Washington, DC 20585; 202-586-4272; boyan.kovacic@ee.doe.gov.

SUPPLEMENTARY INFORMATION: FEMP works with key individuals to accomplish energy change within organizations by bringing expertise from all levels of project and policy implementation to enable Federal agencies to meet energy-related goals and to provide energy leadership to the country. The Federal Government, as the nation's largest energy consumer, has a tremendous opportunity and clear responsibility to lead by example. FEMP is central to this responsibility, guiding agencies to use funding more effectively in meeting Federal and agency-specific energy management objectives.

Section 152(f) of the Energy Policy Act of 1992, Public Law 102-486, authorizes the Secretary of Energy to establish a Federal Energy Efficiency Fund with the stated purpose of providing grants to Federal agencies to assist them in meeting the energy management requirements of the National Energy Conservation Policy Act (42 U.S.C. 8256(b)). FEMP anticipates that the FOA will announce the availability of funding from the Federal Energy Efficiency Fund, which likely will be limited to proposed CHP and renewable energy projects that meet the energy management requirements of the National Energy Conservation Policy Act, as amended (42 U.S.C. 8253). FEMP further anticipates that applications would include, at a minimum, a preliminary analysis and anticipated implementation process for a technically and economically viable capital project or set of projects. Project goals should include the completion of CHP or renewable energy projects at Federal facilities.

In conjunction with AFFECT funds under the FOA, a Federal agency would be expected to demonstrate that it could significantly leverage FOA grant funds using appropriated funds or alternative project financing mechanisms such as energy savings performance contracts, utility energy service contracts, or power purchase agreements. A Federal agency also would need to demonstrate that the proposed project would lend itself to follow-on replication efforts at additional Federal facilities.

The purpose of this Notice of Intent is to encourage prospective applicants to begin formulating ideas, gathering data, and developing opportunities to leverage funds in anticipation of the issuance of the FOA.

Additionally, FEMP assists Federal agencies in planning and implementing energy efficiency and renewable energy projects. Assistance provided by FEMP includes assistance to Federal agencies interested in identifying and analyzing CHP and/or renewable energy opportunities and technologies in advance of the FOA. This technical assistance may include pre-screenings and/or screenings of potential technologies and sites, or possibly other forms of assistance. For more information on the assistance FEMP can provide, please contact the FEMP staff identified in the FOR FURTHER INFORMATION CONTACT section. Interested Federal agencies also can visit http://www1.eere.energy.gov/femp/technologies/renewable_assistance.html (although this Web site specifically covers renewable energy, similar services are available for CHP).

All Federal agencies are encouraged to take advantage of the technical assistance offered by FEMP. Participation in technical assistance offered by FEMP does not guarantee that an applicant for the AFFECT grant program would be selected, and not utilizing FEMP technical assistance would not preclude an applicant from applying or being selected for AFFECT grant funding. FEMP technical assistance related to the objectives of the AFFECT FOA will only be available to Federal agencies up until the release of the FOA, which is tentatively scheduled for release in the first quarter of fiscal year (FY) 2014.

This Notice of Intent is issued solely to advise interested Federal agencies that DOE intends to issue a FOA and is for information and FOA planning purposes only; it does not constitute a formal solicitation for proposals or abstracts. No response to this Notice of Intent is expected, and any responses will be treated as informational only. In accordance with the Federal Acquisition Regulation (48 CFR 15.201(e)), responses to this Notice of Intent are not offers and cannot be accepted by the Government to form a binding contract. DOE will not provide reimbursement for costs incurred in responding to this Notice of Intent.

DOE reserves the right to change the requirements of any proposed FOA, issue a FOA as described herein, issue a FOA involving only a portion of the elements listed, or not issue a FOA at all. Any information contained in this Notice of Intent also may be subject to change.

Issued in Washington, DC, on July 17, 2013.
Timothy Unruh,
Director, Federal Energy Management Program.

[FR Doc. 2013-17672 Filed 7-22-13; 8:45 am]

BILLING CODE 6450-01-P